ENVIRONMENTAL PROTECTION AGENCY

40 CFR Part 62

[EPA-R03-OAR-2017-0484; FRL-9972-55-Region 3]

Approval and Promulgation of Air Quality Implementation Plans; Maryland; Continuous Opacity Monitoring Requirements for Municipal Waste Combustors; Withdrawal of Direct Final Rule

AGENCY: Environmental Protection Agency (EPA).

ACTION: Withdrawal of direct final rule.

SUMMARY: Due to the receipt of an adverse comment, the Environmental Protection Agency (EPA) is withdrawing the November 6, 2017 direct final rule (DFR) that approved revisions to the State of Maryland's Clean Air Act (CAA) section 111(d)/129 State Plan for municipal waste combustors (MWCs). The revisions contain Maryland's amendments to Regulations .07 and .08 under the Code of Maryland Regulations (COMAR) 26.11.08. This withdrawal action is being taken under sections 129 and 111(d) of the CAA.

DATES: The direct final rule published at 82 FR 51350 on November 6, 2017 is withdrawn effective December 26, 2017.

ADDRESSES: EPA has established docket number EPA-R03-OAR-2017-0484 for this action. The index to the docket is available electronically at http://www.regulations.gov and in hard copy at Air Protection Division, U.S. Environmental Protection Agency, Region III, 1650 Arch Street, Philadelphia, Pennsylvania 19103.

FOR FURTHER INFORMATION CONTACT: Emily Linn, (215) 814-5273, or by email at linn.emily@epa.gov.

SUPPLEMENTARY INFORMATION: On May 10, 2016, the State of Maryland submitted a formal revision (MD Submittal #16-05) to its CAA section 111(d)/129 State Plan for MWCs. The revisions contain Maryland's amendments to COMAR 26.11.08, “Requirements for an Existing Large MWC with a Capacity Greater Than 250 Tons Per Day.” These amendments update the MWC references to opacity compliance previously made by the Maryland Department of the Environment. The Maryland state submittal is available in the docket for this rulemaking and available online at www.regulations.gov.

Please see additional information provided in the direct final action published in the Federal Register on November 6, 2017 (82 FR 51350) and in the companion proposed rule which was also published on November 6, 2017 (82 FR 51380). In the DFR, we stated that if we received adverse comment by December 6, 2017, the rule would be withdrawn and not take effect. EPA subsequently received an adverse comment. As a result of the comment received, EPA is withdrawing the DFR approving the revisions submitted by the State of Maryland to their CAA section 111(d)/129 State Plan for MWCs. EPA will address the comment received in a subsequent final action based upon the proposed action also published on November 6, 2017. EPA will not institute a second comment period on this action.

List of Subjects in 40 CFR Part 62

Environmental protection, Air pollution control, Carbon monoxide, Intergovernmental relations, Lead, Nitrogen dioxide, Particulate matter, Reporting and recordkeeping requirements, Sulfur oxides.

Dated: December 15, 2017.
Cosmo Servidio,
Regional Administrator, Region III.

Accordingly, the amendments to 40 CFR 62.5110 and 40 CFR 62.5112, published on November 6, 2017 (82 FR 51350), are withdrawn effective December 26, 2017.

[FR Doc. 2017-27796 Filed 12-22-17; 8:45 am]

BILLING CODE 6560-50-P